DEPARTMENT OF AGRICULTURE

Forest Service

Notice of New Fee Sites on the Angeles National Forest

AGENCY: USDA, Forest Service.

ACTION: Notice of new fee site—Big Pines Clubhouse Historic Site.

SUMMARY: The Angeles National Forest will begin charging a fee for the rental of the Big Pines Clubhouse Historic Site. The fee will be $65.00 per hour not to exceed $510.00 per day, with a discounted rate of $45.00 per hour for interpretive programs. Rentals of this type are unusual on Federal lands but public involvement has indicated that visitors appreciate and enjoy the availability of this kind of historic rental facility. Funds from the rental will be used for the continued operation and maintenance of the Big Pines Clubhouse Historic Site.

DATES: The Bit Pines Clubhouse Historic Site will become available for rent August 7, 2006.

FOR FURTHER INFORMATION CONTACT: Raina Fulton, Public Services Staff Officer, USDA Forest Service, Angeles National Forest, 701 North Santa Anita Ave., Arcadia, CA 91006.

SUPPLEMENTARY INFORMATION: The Federal Recreation Lands Enhancement Act (Title VII, Pub. L. 108-447) directs the Secretary of Agriculture to publish a six month advance notice in the Federal Register whenever new recreation fee areas are established. The intent of this notice is to inform publics of a new fee site.

The Angeles National Forest currently has no other rental facility similar to the Big Pines Clubhouse Historic Site, this is a unique opportunity. A business analysis of the Big Pines Clubhouse Historic Site has shown that people desire having this sort of recreation experience on the Angeles National Forest. A market analysis indicates that the fee of $65.00 per hour not to exceed $510.00 per day, with a discounted rate of $45.00 per hour for interpretive programs is both reasonable and acceptable for this sort of unique recreation experience.

People wanting to rent the Big Pines Clubhouse Historic Site will need to do so through the National Recreation Reservation Service, at http://www.reserveusa.com or by calling 1-877-444-6777. The National Recreation Reservation Service charges a $9 fee for reservations.

Dated: February 3, 2006.
Valerie Guardia,
Deputy Director Recreation, Wilderness and Heritage Resources.

[FR Doc. 06-2025 Filed 3-3-06; 8:45 am]

BILLING CODE 3410-11-M